DEPARTMENT OF TRANSPORTATION

Federal Transit Administration

Notice of Meeting of the Transit Rail Advisory Committee for Safety (TRACS)

AGENCY: Federal Transit Administration, DOT.

ACTION: Notice of meeting.

SUMMARY: This notice announces a public meeting of the Transit Rail Advisory Committee for Safety (TRACS). TRACS is a Federal Advisory Committee established by the Secretary of Transportation in accordance with the Federal Advisory Committee Act to provide information, advice, and recommendations to the Secretary and the Federal Transit Administrator on matters relating to the safety of public transportation systems.

DATES: The TRACS meeting will be held on April 27, 2011, from 9 a.m. to 5 p.m., and April 28, 2011, from 8 a.m. to 12 p.m.

ADDRESSES: The meeting will be held at the Four Points by Sheraton Hotel, 1201 K Street, NW., Washington DC.

FOR FURTHER INFORMATION CONTACT: Iyon Rosario, Office of Safety and Security, Federal Transit Administration, Room E43-434, 1200 New Jersey Avenue, SE., Washington, DC, 20590, 202-366-2010; TRACS@dot.gov.

SUPPLEMENTARY INFORMATION: This notice is provided in accordance with the Federal Advisory Committee Act (Pub. L. 92-463, 5 U.S.C. App. 2). As noted above, TRACS is a Federal Advisory Committee established to provide information, advice, and recommendations to the Secretary of Transportation and the Administrator of the Federal Transit Administration on matters relating to the safety of public transportation systems. TRACS is composed of 21 members representing a broad base of expertise necessary to discharge its responsibilities. The first meeting of TRACS was held on September 9-10, 2010. The tentative agenda for the second meeting of TRACS (being held April 27-28, 2011), is set forth below:

Agenda

April 27-28, 2011

(1) Opening Remarks

(2) Safety Briefing

(3) Discussion of Working Group 01 and Working Group 02 Draft Letter Reports

(4) Review of New Task Statement

(5) Public Comment

(6) Closing Remarks

This meeting will be open to the public. Members of the public who wish to make an oral statement at the meeting or are seeking special accommodations, are directed to make a request to Iyon Rosario, Office of Safety and Security, FTA; (202) 366-2010; or at TRACS@dot.gov on or before the close of business on April 20, 2011. Provisions will be made to include oral statements on the agenda. Members of the public may submit written comments or suggestions concerning the activities of TRACS at any time before or after the meeting at TRACS@dot.gov; or to U.S. Department of Transportation, Federal Transit Administration, Office of Safety and Security, Room E43-435, 1200 New Jersey Avenue, SE., Washington, DC 20590, Attention: Iyon Rosario. Information from the meeting will be posted on FTA's public Web site at http://www.fta.dot.gov/or http://fta.dot.gov/11039_11052.htm. Written comments submitted to TRACS will also be posted at the above Web address.

Issued on March 21, 2011.
Peter Rogoff,
Administrator.

[FR Doc. 2011-7027 Filed 3-24-11; 8:45 am]

BILLING CODE P